SECURITIES AND EXCHANGE COMMISSION

Sunshine Act Meetings

Time and Date: Notice is hereby given, pursuant to the provisions of the Government in the Sunshine Act, Pub. L. 94-409, the Securities and Exchange Commission will hold an Open Meeting on Wednesday, December 19, 2018 at 9:00 a.m.

Place: The meeting will be held in Auditorium LL-002 at the Commission's headquarters, 100 F Street NE, Washington, DC 20549.

Status: This meeting will begin at 9:00 a.m. (ET) and will be open to the public. Seating will be on a first-come, first-served basis. Visitors will be subject to security checks. The meeting will be webcast on the Commission's website at www.sec.gov.

Matters to Be Considered: The subject matters of the Open Meeting will be the Commission's consideration of:

• Whether to approve the 2019 budget of the Public Company Accounting Oversight Board and the related annual accounting support fee for the Board under Section 109 of the Sarbanes-Oxley Act of 2002.

• Whether to issue a Request for Comment on the nature and content of quarterly reports and earnings releases issued by reporting companies.

• Whether to adopt Rule of Practice 194 pursuant to Section 15F(b)(6) of the Securities Exchange Act of 1934.

• Whether to propose rules under Section 15F(i)(2) of the Securities Exchange Act of 1934 that would require security-based swap dealers and major security-based swap participants to comply with certain risk mitigation techniques with respect to portfolios of security-based swaps not submitted for clearing to a central counterparty.

• Whether to adopt rules to implement Section 955 of the Dodd-Frank Wall Street Reform and Consumer Protection Act by requiring disclosure about the ability of a company's employees or directors to hedge or offset any decrease in the market value of equity securities granted as compensation to, or held directly or indirectly by, an employee or director.

• Whether to propose a new rule and rule amendments to allow funds to acquire shares of other funds (i.e., “fund of funds” arrangements), including arrangements involving exchange-traded funds, without first obtaining exemptive orders from the Commission.

At times, changes in Commission priorities require alterations in the scheduling of meeting items.

Contact Person for More Information: For further information and to ascertain what, if any, matters have been added, deleted, or postponed; please contact Brent J. Fields from the Office of the Secretary at (202) 551-5400.

Dated: December 12, 2018.
Brent J. Fields,
Secretary.

[FR Doc. 2018-27317 Filed 12-13-18; 11:15 am]

BILLING CODE 8011-01-P